FEDERAL HOUSING FINANCE BOARD

[No. 2000-N-6]

Federal Home Loan Bank Members Selected for Community Support Review

AGENCY: Federal Housing Finance Board.

ACTION: Notice.

SUMMARY: The Federal Housing Finance Board (Finance Board) is announcing the Federal Home Loan Bank (Bank) members it has selected for the 2000-01 third quarter review cycle under the Finance Board's community support requirement regulation. This notice also prescribes the deadline by which Bank members selected for review must submit Community Support Statements to the Finance Board.

DATES: Bank members selected for the 2000-01 third quarter review cycle under the Finance Board's community support requirement regulation must submit completed Community Support Statements to the Finance Board on or before November 27, 2000.

ADDRESSES: Bank members selected for the 2000-01 third quarter review cycle under the Finance Board's community support requirement regulation must submit completed Community Support Statements to the Finance Board either by regular mail at the Office of Policy, Research and Analysis, Program Assistance Division, Federal Housing Finance Board, 1777 F Street, NW., Washington, DC 20006, or by electronic mail at FITZGERALDE@FHFB.GOV.

FOR FURTHER INFORMATION CONTACT: Emma J. Fitzgerald, Program Analyst, Office of Policy, Research and Analysis, Program Assistance Division, by telephone at 202/408-2874, by electronic mail at FITZGERALDE@FHFB.GOV, or by regular mail at the Federal Housing Finance Board, 1777 F Street, NW., Washington, DC 20006. A telecommunications device for deaf persons (TDD) is available at 202/408-2579.

SUPPLEMENTARY INFORMATION:

I. Selection for Community Support Review

Section 10(g)(1) of the Federal Home Loan Bank Act (Bank Act) requires the Finance Board to promulgate regulations establishing standards of community investment or service Bank members must meet in order to maintain access to long-term advances. See 12 U.S.C. 1430(g)(1). The regulations promulgated by the Finance Board must take into account factors such as the Bank member's performance under the Community Reinvestment Act of 1977 (CRA), 12 U.S.C. 2901 et seq., and record of lending to first-time homebuyers. See 12 U.S.C. 1430(g)(2). Pursuant to the requirements of section 10(g) of the Bank Act, the Finance Board has promulgated a community support requirement regulation that establishes standards a Bank member must meet in order to maintain access to long-term advances, and review criteria the Finance Board must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, the Finance Board selects approximately one-eighth of the members in each Bank district for community support review each calendar quarter. 12 CFR 944.2(a). The Finance Board will not review an institution's community support performance until it has been a Bank member for at least one year. Selection for review is not, nor should it be construed as, any indication of either the financial condition or the community support performance of the member.

Each Bank member selected for review must complete a Community Support Statement and submit it to the Finance Board by the November 27, 2000 deadline prescribed in this notice. 12 CFR 944.2(b)(1)(ii) and (c). On or before October 27, 2000, each Bank will notify the members in its district that have been selected for the 2000-01 third quarter community support review cycle that they must complete and submit to the Finance Board by the deadline a Community Support Statement. 12 CFR 944.2(b)(2)(i). The member's Bank will provide a blank Community Support Statement Form, which also is available on the Finance Board's web site: WWW.FHFB.GOV. Upon request, the member's Bank also will provide assistance in completing the Community Support Statement.

The Finance Board has selected the following members for the 2000-01 third quarter community support review cycle:

Name | City | State
Federal Home Loan Bank of Boston—District 1
Collinsville Savings Society | Collinsville | Connecticut.
The Guilford Savings Bank | Guilford | Do.
Advest Bank and Trust Company | Hartford | Do.
Southington Savings Bank | Southington | Do.
Tolland Bank | Vernon | Do.
Northwest Community Bank | Winsted | Do.
Bar Harbor Banking and Trust Company | Bar Harbor | Maine
Calais Federal Savings and Loan Association | Calais | Do.
Camden National Bank | Camden | Do.
Damariscotta Bank and Trust Company | Damariscotta | Do.
Franklin Savings Bank | Farmington | Do.
Katahdin Trust Company | Patten | Do.
Peoples Heritage Savings Bank | Portland | Do.
Rockland Savings and Loan Association | Rockland | Do.
Coastal Bank | Westbrook | Do.
Abington Savings Bank | Abington | Massachusetts.
Athol Savings Bank | Athol | Do.
Boston Bank of Commerce | Boston | Do.
Security Federal Savings Bank | Brockton | Do.
Canton Institution for Savings, Bank of Canton | Canton | Do.
Clinton Savings Bank | Clinton | Do.
Danvers Savings Bank | Danvers | Do.
Lafayette Federal Savings Bank | Fall River | Do.
Falmouth Co-operative Bank | Falmouth | Do.
Family Federal Savings, FA | Fitchburg | Do.
Florence Savings Bank | Florence | Do.
Colonial Co-operative Bank | Gardner | Do.
Hingham Institution for Savings | Hingham | Do.
Peoples Savings Bank | Holyoke | Do.
Ipswich Savings Bank | Ipswich | Do.
Roxbury-Highland Bank | Jamaica Plain | Do.
Equitable Co-operative Bank | Lynn | Do.
Mansfield Co-operative Bank | Mansfield | Do.
Milford Federal Savings and Loan Association Milford | Do.
Newton South Co-operative Bank | Newton | Do.
Northampton Cooperative Bank | Northampton | Do.
Colonial Federal Savings Bank | Quincy | Do.
Reading Co-operative Bank | Reading | Do.
Southbridge Savings Bank | Southbridge | Do.
Mechanics Co-operative Bank | Taunton | Do.
Hometown Bank, a Co-operative Bank | Webster | Do.
Woronoco Savings Bank | Westfield | Do.
South Shore Savings Bank | Weymouth | Do.
Bow Mills Bank and Trust | Bow | New Hampshire.
Citizens Bank—New Hampshire | Manchester | Do.
Newport Federal Savings Bank | Newport | Rhode Island.
First Vermont Bank and Trust Company | Brattleboro | Vermont.
National Bank of Middlebury | Middlebury | Do.
Union Bank | Morrisville | Do.
Northfield Savings Bank | Northfield | Do.
Merchants Bank | South Burlington | Do.
Franklin Lamoille Bank | St. Albans | Do.
Federal Home Loan Bank of New York—District 2
Audubon Savings Bank | Audubon | New Jersey.
Bogota Savings Bank | Bogota | Do.
Peoples Savings Bank | Bordentown | Do.
Century Savings Bank | Bridgeton | Do.
Colonial Bank FSB | Bridgeton | Do.
NVE Savings Bank | Englewood | Do.
Glen Rock Savings Bank | Glen Rock | Do.
Summit Bank | Hackensack | Do.
Roma Federal Savings Bank | Hamilton | Do.
Schuyler Savings Bank | Kearny | Do.
Kearny Federal Savings Bank | Kearny | Do.
Lincoln Park Savings and Loan Association | Lincoln Park | Do.
Metuchen Savings Bank | Metuchen | Do.
Boiling Springs Savings Bank | Rutherford | Do.
Gloucester County Federal Savings Bank | Sewell | Do.
Sturdy Savings Bank | Stone Harbor | Do.
South Jersey Savings and Loan Association | Turnersville | Do.
Penn Federal Savings Bank | West Orange | Do.
Woodstown National Bank and Trust Company | Woodstown | Do.
Evans National Bank | Angola | New York.
Independence Community Bank | Brooklyn | Do.
Elmira Savings Bank, F.S.B. | Elmira | Do.
Goshen Savings Bank | Goshen | Do.
Cattaraugus County Bank | Little Valley | Do.
Abacus Federal Savings Bank | New York | Do.
Chinatown Federal Savings Bank | New York | Do.
Commercial Bank of New York | New York | Do.
Staten Island Savings Bank | Staten Island | Do.
The Savings Bank of Utica | Utica | Do.
Wallkill Valley FS&LA | Wallkill | Do.
Doral Bank | Catano | Puerto Rico.
Oriental Bank and Trust | Hato Rey | Do.
Federal Home Loan Bank of Pittsburgh—District 3
Altoona First Savings Bank | Altoona | Pennsylvania.
Reeves Bank | Beaver | Do.
Bernville Bank, N.A. | Bernville | Do.
Founders' Bank | Bryn Mawr | Do.
Pennsylvania State Bank | Camp Hill | Do.
First Carnegie Deposit | Carnegie | Do.
Coatesville Savings Bank | Coatesville | Do.
Slovenian S&LA of Franklin-Conemaugh | Conemaugh | Do.
First National Community Bank | Dunmore | Do.
Halifax National Bank | Halifax | Do.
Peoples National Bank | Hallstead | Do.
Keystone Financial Bank, N.A. | Harrisburg | Do.
Polonia Bank | Huntingdon Valley | Do.
Mauch Chunk Trust Company | Jim Thorpe | Do.
First Summit Bank | Johnstown | Do.
First National Bank of McConnellsburg | McConnellsburg | Do.
Mifflinburg Bank and Trust Company | Mifflinburg | Do.
Community Banks, N.A. | Millersburg | Do.
Union National Community Bank | Mount Joy | Do.
The Muncy Bank and Trust Company | Muncy | Do.
First Penn Bank | Philadelphia | Do.
Eureka Bank | Pittsburgh | Do.
Iron and Glass Bank | Pittsburgh | Do.
Pittsburgh Home Savings Bank | Pittsburgh | Do.
Slovak Savings Bank | Pittsburgh | Do.
United-American Savings Bank | Pittsburgh | Do.
Berks County Bank | Reading | Do.
Merchants Bank of Pennsylvania | Shenandoah | Do.
Northwest Savings Bank | Warren | Do.
Peoples State Bank of Wyalusing | Wyalusing | Do.
Drovers & Mechanics Bank | York | Do.
York Federal Savings and Loan Association | York | Do.
City National Bank of West Virginia | Charleston | West Virginia.
Citizens Bank of Morgantown, Inc. | Morgantown | Do.
One Valley Bank Morgantown | Morgantown | Do.
First National Bank | Ronceverte | Do.
Advance Financial Savings Bank | Wellsburg | Do.
Federal Home Loan Bank of Atlanta—District 4
The Exchange Bank of Alabama | Altoona | Alabama.
Bank of Alabama | Birmingham | Do.
First Commercial Bank | Birmingham | Do.
New South Federal Savings Bank | Birmingham | Do.
First National Bank | Brewton | Do.
Central State Bank | Calera | Do.
Camden National Bank | Camden | Do.
The Peoples Bank | Clio | Do.
Commercial Bank of Demopolis | Demopolis | Do.
Southland Bank | Dothan | Do.
The Southern Bank Company | Gadsden | Do.
First National Bank of Hamilton | Hamilton | Do.
Headland National Bank | Headland | Do.
Valley National Bank | Lanett | Do.
First State Bank of Clay County | Lineville | Do.
First Citizens Bank | Luverne | Do.
Bank of Prattville | Prattville | Do.
Citizens' Bank, Inc. | Robertsdale | Do.
Slocomb National Bank | Slocomb | Do.
First Tuskegee Bank | Tuskegee | Do.
The Citizens Bank of Valley Head | Valley Head | Do.
First Liberty National Bank | Washington | DC.
Riggs Bank N.A. | Washington | Do.
Pointe Bank | Boca Raton | Florida
BankUnited, FSB | Coral Gables | Do.
BankAtlantic | Fort Lauderdale | Do.
Natbank N.A | Hollywood | Do.
American Bank and Trust of Polk County | Lake Wales | Do.
Florida First Bank | Lakeland | Do.
Eagle National Bank of Miami | Miami | Do.
Kislak National Bank | Miami Lakes | Do.
Metro Savings Bank, FSB | Orlando | Do.
First Federal Bank of North Florida | Palatka | Do.
Bay Bank and Trust Company | Panama City | Do.
UniBank | Pinecrest | Do.
Sarasota Bank | Sarasota | Do.
Capital City Bank | Tallahassee | Do.
Bay Financial Savings Bank, F.S.B | Tampa | Do.
City First Bank | Tampa | Do.
Columbia Bank | Tampa | Do.
Manufacturers Bank of Florida | Tampa | Do.
Republic Security Bank | West Palm Beach | Do.
Federal Trust Bank | Winter Park | Do.
Bank of Alapaha | Alapaha | Georgia
The Summit National Bank | Atlanta | Do.
Georgia Bank and Trust Company of Augusta | Augusta | Do.
The First Bank of Brunswick | Brunswick | Do.
First Georgia Bank, F.S.B | Brunswick | Do.
Bank of Canton | Canton | Do.
White County Bank | Cleveland | Do.
Newton Federal Savings and Loan Association | Covington | Do.
Hardwick Bank and Trust Company | Dalton | Do.
Southeastern Bank | Darien | Do.
First National Bank of Coffee County | Douglas | Do.
Elberton Federal Savings and Loan Association | Elberton | Do.
Farmers and Merchants Bank | Eatonton | Do.
Fairburn Banking Company | Fairburn | Do.
Citizens Union Bank | Greensboro | Do.
The Coastal Bank | Hinesville | Do.
Crescent Bank and Trust Company | Jasper | Do.
Peoples Bank | Lavonia | Do.
Embry National Bank | Lawrenceville | Do.
Pineland State Bank | Metter | Do.
First National Bank of the South | Milledgeville | Do.
Gateway Bank and Trust | Ringgold | Do.
First Floyd Bank | Rome | Do.
Farmers and Merchants Bank | Statesboro | Do.
Spivey State Bank | Swainsboro | Do.
Thomaston Federal Savings Bank | Thomaston | Do.
Commercial Bank | Thomasville | Do.
Tucker Federal Bank | Tucker | Do.
First Federal Savings and Loan | Valdosta | Do.
Citizens Bank | Warrenton | Do.
Severn Savings Bank, FSB | Annapolis | Maryland.
Advance Bank | Baltimore | Do.
Baltimore American Savings Bank, FSB | Baltimore | Do.
Baltimore County Savings Bank, F.S.B | Baltimore | Do.
Bohemian American FS&LA | Baltimore | Do.
Fraternity Federal Savings and Loan | Baltimore | Do.
Hamilton Federal Savings and Loan Association | Baltimore | Do.
Leeds Federal Savings Bank | Baltimore | Do.
Madison and Bradford FS&LA | Baltimore | Do.
Saint Casimirs Savings Bank | Baltimore | Do.
Presidential Bank, FSB | Bethesda | Do.
Peoples Bank of Kent County | Chestertown | Do.
The Talbot Bank of Easton | Easton | Do.
Peoples Bank of Elkton | Elkton | Do.
The Bank of Fruitland | Fruitland | Do.
Eastern Savings Bank, FSB | Hunt Valley | Do.
Wyman Park FS&LA | Lutherville | Do.
Key Bank and Trust | Owings Mills | Do.
Enterprise Federal Savings Bank | Oxon Hill | Do.
Valley Bank of Maryland | Pikesville | Do.
American Bank | Rockville | Do.
Wilmington Trust FSB | Salisbury | Do.
First Shore FS&LA | Salisbury | Do.
Sykesville Federal Savings Association | Sykesville | Do.
Provident Bank of Maryland | Towson | Do.
Ashburton Federal Savings & Loan Association | Westminster | Do.
Equitable Federal Savings Bank | Wheaton | Do.
Home Savings Bank, SSB of Eden | Eden | North Carolina.
Gaston Federal Bank | Gastonia | Do.
High Point Bank and Trust Company | High Point | Do.
The Community Bank | Pilot Mountain | Do.
Roanoke Valley Savings Bank, SSB | Roanoke Rapids | Do.
Centura Bank | Rocky Mount | Do.
First Savings Bank of Moore County | Southern Pines | Do.
Piedmont Federal Savings & Loan Association | Winston-Salem | Do.
Perpetual Bank, FSB | Anderson | South Carolina
First Palmetto Savings Bank | Camden | Do.
Spratt Savings and Loan Association | Chester | Do.
Peoples Federal Savings & Loan | Conway | Do.
Greenville National Bank | Greenville | Do.
Heritage Federal Bank | Laurens | Do.
Plantation Federal Savings Bank, Inc. | Pawleys Island | Do.
Woodruff Federal Savings and Loan | Woodruff | Do.
Shore Bank | Accomac | Virginia
Virginia Commerce Bank | Arlington | Do.
Bedford Federal Savings Bank | Bedford | Do.
Fredericksburg Savings Bank | Fredericksburg | Do.
First and Citizens Bank | Monterey | Do.
Farmers&MerchantsBank—Eastern Shore | Onley | Do.
First Federal Savings Bank of Virginia | Petersburg | Do.
Southwest Virginia Savings Bank, FSB | Roanoke | Do.
Community Bank | Staunton | Do.
Southside Bank | Tappahannock | Do.
Federal Home Loan Bank of Cincinnati—District 5
Kentucky Home Bank, Inc. | Bardstown | Kentucky .
Bank of Clarkson | Clarkson | Do.
Clinton Bank | Clinton | Do.
Citizens Federal Savings and Loan Association | Covington | Do.
Heritage Community Bank | Danville | Do.
South Central Savings Bank, F.S.B | Edmonton | Do.
The Peoples Bank of Fleming County | Flemingsburg | Do.
State National Bank of Frankfort | Frankfort | Do.
Fredonia Valley Bank | Fredonia | Do.
First Southern National Bank—Garrard County | Lancaster | Do.
Citizens Bank & Trust Company of Grayson Co | Leitchfield | Do.
Bank of the Bluegrass and Trust Company | Lexington | Do.
Peoples Security Bank | Louisa | Do.
First Capital Bank of Kentucky | Louisville | Do.
First FS&LA of Morehead | Morehead | Do.
Commonwealth Bank, F.S.B | Mt. Sterling | Do.
Mount Sterling National Bank | Mt. Sterling | Do.
Traditional Bank, Inc | Mt. Sterling | Do.
Peoples Bank of Tompkinsville | Tompkinsville | Do.
Farmers National Bank | Walton | Do.
Belmont Savings Bank | Bellaire | Ohio.
Citizen's National Bank | Bluffton | Do.
Brookville Building and Savings Association | Brookville | Do.
First FS&LA of Bucyrus | Bucyrus | Do.
First Federal Savings and Loan Association | Centerburg | Do.
Columbia Savings Bank | Cincinnati | Do.
Franklin Savings and Loan Company | Cincinnati | Do.
Market Bank | Cincinnati | Do.
New Foundation Loan and Building Company | Cincinnati | Do.
Warsaw Federal Savings and Loan Association | Cincinnati | Do.
Charter One Bank, F.S.B | Cleveland | Do.
Third FS&LA of Cleveland | Cleveland | Do.
The Cortland Savings and Banking Company | Cortland | Do.
Heartland Bank | Croton | Do.
United Midwest Savings Bank | DeGraff | Do.
Hicksville Building Loan and Savings Bank | Hicksville | Do.
Merchants National Bank | Hillsboro | Do.
NCB Savings Bank, FSB | Hillsboro | Do.
Home Savings Bank | Kent | Do.
Home S&L Company of Kenton, Ohio | Kenton | Do.
Kenwood Savings Bank | Kenwood | Do.
First FS&LA of Lakewood | Lakewood | Do.
Fairfield Federal Savings & Loan Association | Lancaster | Do.
First National Bank | Lebanon | Do.
Leesburg Federal Savings Bank | Leesburg | Do.
The First-Knox National Bank of Mount Vernon | Mount Vernon | Do.
New Carlisle Federal Savings Bank | New Carlisle | Do.
Park National Bank | Newark | Do.
First Savings Bank | Norwood | Do.
The Oakwood Deposit Bank Company | Oakwood | Do.
The Citizens Savings Bank Company | Pemberville | Do.
Third Savings and Loan Company | Piqua | Do.
American Savings Bank | Portsmouth | Do.
Home City Federal Savings Bank | Springfield | Do.
Belmont National Bank | St. Clairsville | Do.
Steel Valley Bank NA | Tiltonsville | Do.
Perpetual Federal Savings Bank | Urbana | Do.
First FS&LA of Warren | Warren | Do.
First Federal Savings Bank | Washington C.H | Do.
Liberty Savings Bank, F.S.B | Wilmington | Do.
North Valley Bank | Zanesville | Do.
Farmers & Merchants Bank | Adamsville | Tennessee.
Bank of Alamo | Alamo | Do.
Peoples Bank | Barretville | Do.
First South Credit Union | Bartlett | Do.
Bank of Belfast | Belfast | Do.
Bank of Crockett | Bells | Do.
First Bank of Polk County | Copperhill | Do.
Decatur County Bank | Decaturville | Do.
First Independent Bank | Gallatin | Do.
Trust One Bank | Germantown | Do.
Andrew Johnson Bank | Greeneville | Do.
Chester County Bank | Henderson | Do.
Lewis County Bank | Hohenwald | Do.
The Bank of Jackson | Jackson | Do.
People's Community Bank | Johnson City | Do.
Wilson Bank and Trust | Lebanon | Do.
First National Bank of the Cumberlands | Livingston | Do.
Citizens Bank | New Tazewell | Do.
Newport Federal Savings & Loan Association | Newport | Do.
Citizens National Bank | Sevierville | Do.
Federal Home Loan Bank of Indianapolis—District 6
Independent Federal Credit Union | Anderson | Indiana.
Boonville Federal Savings Bank | Boonville | Do.
First State Bank | Brazil | Do.
Riddell National Bank | Brazil | Do.
Union Savings and Loan Association | Connersville | Do.
Union FS&LA | Crawfordsville | Do.
First Federal Savings Bank | Evansville | Do.
Citizens Savings Bank of Frankfort | Frankfort | Do.
Pacesetter Bank of Hartford City | Hartford City | Do.
MetroBank | Indanapolis | Do.
Indiana Corp. Federal Credit Union | Indanapolis | Do.
Kentland Federal Savings and Loan Association | Kentland | Do.
The LaPorte Savings Bank | LaPorte | Do.
Logansport Savings Bank, FSB | Logansport | Do.
Home Bank, S.B | Martinsville | Do.
Peoples Bank SB | Munster | Do.
Farmers State Bank | New Ross | Do.
First Bank Richmond, S.B | Richmond | Do.
Mid-Southern Savings Bank, FSB | Salem | Do.
Owen County State Bank | Spencer | Do.
Grant County State Bank | Swayzee | Do.
First State Bank, Southwest Indiana | Tell City | Do.
Liberty Savings Bank, FSB | Whiting | Do.
Homestead Savings Bank, FSB | Albion | Michigan.
Commercial Bank | Alma | Do.
Paramount Bank | Bingham Farms | Do.
Fidelity Bank | Birmingham | Do.
Tri County Bank | Brown City | Do.
Branch County FS&LA | Coldwater | Do.
Select Bank | Grand Rapids | Do.
Peoples State Bank | Hamtramck | Do.
Union Bank | Lake Odessa | Do.
Marshall Savings Bank, FSB | Marshall | Do.
Peoples State Bank of Munising | Munising | Do.
New Buffalo Savings Bank | New Buffalo | Do.
Thumb National Bank and Trust Company | Pigeon | Do.
Citizens First Savings Bank | Port Huron | Do.
LaSalle Federal Savings Bank | St. Joseph | Do.
First National Bank of Three Rivers | Three Rivers | Do.
First National Bank of Wakefield | Wakefield | Do.
Federal Home Loan Bank of Chicago—District 7
First Community Bank and Trust | Beecher | Illinois.
First State Bank of Beecher City | Beecher City | Do.
Greater Chicago Bank | Bellwood | Do.
First National Bank and Trust Company | Carbondale | Do.
The First National Bank in Carlyle | Carlyle | Do.
Centralia Savings Bank | Centralia | Do.
BankChampaign, N.A | Champaign | Do.
Community Savings Bank | Chicago | Do.
Illinois Service FS&LA | Chicago | Do.
Labe Bank | Chicago | Do.
Mid Town Bank & Trust Company of Chicago | Chicago | Do.
Preferred Savings Bank | Chicago | Do.
Pulaski Savings Bank | Chicago | Do.
NAB Bank | Chicago | Do.
North Federal Savings Bank | Chicago | Do.
Oak Bank | Chicago | Do.
South Central Bank and Trust Company | Chicago | Do.
Washington Federal Bank for Savings | Chicago | Do.
Family Federal Savings of Illinois | Cicero | Do.
West Town Savings Bank | Cicero | Do.
The John Warner Bank | Clinton | Do.
Home FS & LA of Elgin | Elgin | Do.
The Elizabeth State Bank | Elizabeth | Do.
Flora Bank and Trust | Flora | Do.
Community Bank Wheaton/Glen Ellyn | Glen Ellyn | Do.
Liberty Federal Bank | Hinsdale | Do.
Illinois State Bank of Lake in the Hills | Lake in the Hills | Do.
Heritage National Bank | Lawrenceville | Do.
Fairfield Savings Bank, F.S.B | Long Grove | Do.
First State Bank of Mason City | Mason City | Do.
Mazon State Bank | Mazon | Do.
McHenry Savings Bank | McHenry | Do.
City National Bank | Metropolis | Do.
First National Bank | Moline | Do.
Marquette Bank Monmouth | Monmouth | Do.
Wabash Savings Bank | Mt Carmel | Do.
The Farmers Bank of Mt. Pulaski | Mt. Pulaski | Do.
Regency Savings Bank, FSB | Naperville | Do.
Superior Bank FSB | Oak Brook Terrace | Do.
BankFinancial, FSB | Olympia Fields | Do.
Pekin Savings Bank | Pekin | Do.
Herget National Bank | Pekin | Do.
Peru Federal Savings Bank | Peru | Do.
National Bank of Petersburg | Petersburg | Do.
Citizens State Bank of Shipman | Shipman | Do.
Farmers State Bank of Somonauk | Somonauk | Do.
Town and Country Bank of Springfield | Springfield | Do.
Marine Bank, Springfield | Springfield | Do.
Tremont Savings Bank | Tremont | Do.
Banner Banks | Birnamwood | Wisconsin.
Community First Bank | Boscobel | Do.
North Shore Bank, FSB | Brookfield | Do.
Dorchester State Bank | Dorchester | Do.
Mid America Bank | Footville | Do.
Premier Bank | Fort Atkinson | Do.
Capital Bank | Green Bay | Do.
Greenleaf Wayside Bank | Greenleaf | Do.
Hustisford State Bank | Hustisford | Do.
Union State Bank | Kewaunee | Do.
Bank of Lake Mills | Lake Mills | Do.
Bank of Little Chute | Little Chute | Do.
Rural American Bank—Luck | Luck | Do.
AnchorBank, S.S.B | Madison | Do.
Associated Bank South Central | Madison | Do.
Home Savings Bank | Madison | Do.
Bremer Bank | Menomonie | Do.
The Peoples State Bank | Mazomanie | Do.
Middleton Community Bank | Middleton | Do.
First Community Bank | Milton | Do.
Milton Savings Bank | Milton | Do.
Mutual Savings Bank | Milwaukee | Do.
West Pointe Bank | Oshkosh | Do.
Wisconsin State Bank | Random Lake | Do.
The Reedsburg Bank | Reedsburg | Do.
Dairy State Bank | Rice Lake | Do.
Community Business Bank | Sauk City | Do.
PyraMax Bank, S.S.B | South Milwaukee | Do.
Baylake Bank | Sturgeon Bay | Do.
Superior Savings Bank | Superior | Do.
Farmers & Merchants Bank | Tomah | Do.
Bank of Waunakee | Waunakee | Do.
Maritime Savings Bank | West Allis | Do.
West Bend Savings Bank | West Bend | Do.
The First Citizens State Bank of Whitewater | Whitewater | Do.
Federal Home Loan Bank of Des Moines—District 8
Raccoon Valley State Bank | Adel | Iowa.
Peoples State Bank | Albia | Do.
Community Bank | Alton | Do.
Bank Altoona | Altoona | Do.
First National Bank of Ames | Ames | Do.
Farmers & Traders Savings Bank | Bancroft | Do.
Chelsea Savings Bank | Belle Plaine | Do.
Bennett State Bank | Bennett | Do.
Boone Bank & Trust Company | Boone | Do.
Prairie State Bank | Brunsville | Do.
Guaranty Bank and Trust Company | Cedar Rapids | Do.
Cherokee State Bank | Cherokee | Do.
First State Bank | Conrad | Do.
Dubuque Bank and Trust Company | Dubuque | Do.
Exchange State Bank | Exira | Do.
First Federal Savings Bank of Iowa | Fort Dodge | Do.
Gibson Savings Bank | Gibson | Do.
Mills County State Bank | Glenwood | Do.
Security State Bank | Guttenburg | Do.
Farmers Savings Bank | Halbur | Do.
Farmers State Bank | Hawarden | Do.
First State Bank | Hawarden | Do.
Humboldt Trust & Savings Bank | Humboldt | Do.
State Central Bank | Keokuk | Do.
Heritage Bank | Marion | Do.
F&M Bank—Iowa Central | Marshalltown | Do.
Security State Bank | Red Oak | Do.
Lincoln Savings Bank | Reinbeck | Do.
Sibley State Bank | Sibley | Do.
Security State Bank | Stuart | Do.
First State Bank | Sumner | Do.
Farmers Savings Bank & Trust | Vinton | Do.
Webster City Federal Savings Bank | Webster City | Do.
Community State Bank | West Branch | Do.
Citizens State Bank | Wyoming | Do.
Farmers State Bank of Adams | Adams | Minnesota.
Bremer Bank, NA | Alexandria | Do.
State Bank of Aurora | Aurora | Do.
State Bank of Bellingham | Bellingham | Do.
Star Bank, NA | Bertha | Do.
Farmers & Merchants State Bank | Blooming Prairie | Do.
First National Bank | Blue Earth | Do.
Canton State Bank | Canton | Do.
First National Bank of Deer River | Deer River | Do.
The First National Bank of Deerwood | Deerwood | Do.
State Bank of Kimball | Kimball | Do.
Lake Elmo Bank | Lake Elmo | Do.
First National Bank Le Center | Le Center | Do.
First State Bank of LeRoy | LeRoy | Do.
Community Federal Savings & Loan Association | Little Falls | Do.
Prairie State Bank | Milan | Do.
Peoples National Bank | Mora | Do.
First Federal Savings Bank | Morris | Do.
Community National Bank | North Branch | Do.
Northwoods Bank of Minnesota, fsb | Park Rapids | Do.
Pine City State Bank | Pine City | Do.
Prior Lake State Bank | Prior Lake | Do.
Minnesota Valley Bank | Redwood Falls | Do.
First Independent Bank | Russell | Do.
United Prairie Bank | Spicer | Do.
First National Bank | Thief River Falls | Do.
State Bank of Tower | Tower | Do.
Security State Bank of Wanamingo | Wanamingo | Do.
Winona National and Savings Bank | Winona | Do.
Belgrade State Bank | Belgrade | Missouri.
Ozark Mountain Bank | Branson | Do.
O'Bannon Banking Company | Buffalo | Do.
First National Bank | Camdenton | Do.
Horizon State Bank | Cameron | Do.
Bank 21 | Carrollton | Do.
State Bank of Missouri | Concordia | Do.
Eminence Security Bank | Emminence | Do.
Rockwood Bank | Eureka | Do.
Peoples Bank of Fordland | Fordland | Do.
Allen Bank and Trust Company | Harrisonville | Do.
Sun Security Bank of Mid-America | Holts Summit | Do.
Jonesburg State Bank | Jonesburg | Do.
Blue Ridge Bank and Trust Company | Kansas City | Do.
Missouri Bank and Trust of Kansas City | Kansas City | Do.
Kearney Commercial Bank | Kearney | Do.
Neosho Savings and Loan Association | Neosho | Do.
Bank of New Madrid | New Madrid | Do.
Charter 1 Bank | Owensville | Do.
Ozark Bank | Ozark | Do.
Progressive Ozark Bank, fsb | Salem | Do.
First National Bank of Sarcoxie | Sarcoxie | Do.
Security Bank and Trust Company | Scott City | Do.
Community State Bank | Shelbina | Do.
Central West End Bank, A FSB | St. Louis | Do.
Missouri State Bank and Trust Company | St. Louis | Do.
South Side National Bank in St. Louis | St. Louis | Do.
Security Bank of Pulaski County | St. Robert | Do.
Community Bank, NA | Summersville | Do.
Peoples Bank and Trust Company | Troy | Do.
The Bank of Urbana | Urbana | Do.
The Missouri Bank | Warrenton | Do.
Farmers and Merchants Bank of Wright City | Wright City | Do.
First State Bank of North Dakota | Arthur | North Dakota.
First National Bank | Bowbells | Do.
Security State Bank of North Dakota | Hannaford | Do.
The Goose River Bank | Mayville | Do.
The First State Bank of Munich | Munich | Do.
Liberty State Bank | Powers Lake | Do.
Farmers & Merchants Bank of Valley City | Valley City | Do.
Dakota Heritage State Bank | Chancellor | South Dakota.
The First Western Bank Custer | Custer | Do.
Valley Bank, N.A | Elk Point | Do.
Reliabank Dakota | Estelline | Do.
Campbell County Bank, Inc | Herreid | Do.
Bank of Hoven | Hoven | Do.
First State Bank of Miller | Miller | Do.
CorTrust Bank | Mitchell | Do.
American State Bank | Oldham | Do.
American State Bank of Pierre | Pierre | Do.
Farmers and Merchants State Bank | Plankinton | Do.
First PREMIER Bank | Sioux Falls | Do.
First Western Bank Sturgis | Sturgis | Do.
Commercial State Bank | Wagner | Do.
First Western Bank Wall | Wall | Do.
Federal Home Loan Bank of Dallas—District 9
Elk Horn Bank and Trust Company | Arkadelphia | Arkansas.
The Union Bank of Bryant | Bryant | Do.
First National Bank of Howard County | Dierks | Do.
Merchants & Farmers Bank | Dumas | Do.
Planters and Merchants Bank | Gillett | Do.
Calhoun County Bank | Hampton | Do.
Community First Bank | Harrison | Do.
The Cleburne County Bank | Heber Springs | Do.
One Bank & Trust | Little Rock | Do.
Pinnacle Bank | Little Rock | Do.
Pulaski Bank and Trust Company | Little Rock | Do.
Farmers Bank and Trust Company | Magnolia | Do.
Union Bank and Trust Company | Monticello | Do.
Newport Federal Savings Bank | Newport | Do.
Priority Bank | Ozark | Do.
First Community Bank | Pocahontas | Do.
United Bank | Springdale | Do.
Farmers and Merchants Bank | Stuttgart | Do.
First Federal Savings and Loan Association | Texarkana | Do.
Abbeville Building and Loan | Abbeville | Louisiana.
The Business Bank of Baton Rouge | Baton Rouge | Do.
Community Trust Bank | Choudrant | Do.
Crowley Building and Loan Association | Crowley | Do.
United Community Bank | Gonzales | Do.
Central Progressive Bank | Hammond | Do.
The Union Bank | Marksville | Do.
Horizons Bank | Monroe | Do.
IberiaBank | New Iberia | Do.
Fidelity Homestead Association | New Orleans | Do.
Crescent Bank and Trust | New Orleans | Do.
Citizens Bank and Trust Company | Plaquemine | Do.
Iberville Building & Loan Association | Plaquemine | Do.
Bank of Zachary | Zachary | Do.
Magnolia State Bank | Bay Springs | Mississippi.
The Valley Bank | Greenwood | Do.
The First National Bank of South Mississippi | Hattiesburg | Do.
Grand Bank for Savings, FSB | Hattiesburg | Do.
OmniBank | Jackson | Do.
Trustmark National Bank | Jackson | Do.
Citizens Bank and Trust Company | Louisville | Do.
BankFirst Financial | Macon | Do.
Bank of New Albany | New Albany | Do.
Bank of Okalona | Okalona | Do.
First Federal Savings and Loan | Pascagoula | Do.
Bank of Yazoo City | Yazoo City | Do.
Union Savings Bank | Albuquerque | New Mexico.
Western Bank of Clovis | Clovis | Do.
Gallup Federal Savings Bank | Gallup | Do.
Citizens Bank of Las Cruces | Las Cruces | Do.
The Bank of Las Vegas | Las Vegas | Do.
Bank of Santa Fe | Santa Fe | Do.
Century Bank, FSB | Santa Fe | Do.
Franklin Bank, SSB | Austin | Texas.
IBM Texas Employees Federal Credit Union | Austin | Do.
Lamar Bank | Beaumont | Do.
First National Bank of Beeville | Beeville | Do.
Bonham State Bank | Bonham | Do.
First State Bank of North Texas | Cedar Hill | Do.
Shelby Savings Bank, ssb | Center | Do.
Chappell Hill Bank | Chappell Hill | Do.
Charter Bank Northwest | Corpus Christi | Do.
Nueces National Bank | Corpus Christi | Do.
First Security State Bank | Cranfils Gap | Do.
First National Bank of Crockett | Crockett | Do.
First National Bank in Dalhart | Dalhart | Do.
Inwood National Bank | Dallas | Do.
First Command Bank | Fort Worth | Do.
Pioneer National Bank | Fredericksburg | Do.
First State Bank | Happy | Do.
Henderson Savings & Loan | Henderson | Do.
Coastal Bank ssb | Houston | Do.
Community State Bank | Houston | Do.
First Heights Bank, fsb | Houston | Do.
Guardian Savings and Loan Association | Houston | Do.
Heritage Bank | Houston | Do.
Riverway Bank | Houston | Do.
State Bank | La Grange | Do.
Bayshore National Bank of La Porte | La Porte | Do.
Spring Hill State Bank | Longview | Do.
Angelina Savings Bank, FSB | Lufkin | Do.
Guaranty Bank | Mount Pleasant | Do.
Olympic Savings Association | Refugio | Do.
First State Bank | Stratford | Do.
Alliance Bank | Sulphur Springs | Do.
First State Bank | Temple | Do.
First FS&LA of Tyler | Tyler | Do.
First National Bank of Weatherford | Weatherford | Do.
Horizon Capital Bank | Webster | Do.
Federal Home Loan Bank of Topeka—District 10
Colorado Central Credit Union | Arvada | Colorado.
Valley Bank and Trust | Brighton | Do.
Farmers State Bank of Calhan | Calhan | Do.
First National Bank of Canon City | Canon City | Do.
Bank West | Castle Rock | Do.
Castle Rock Bank | Castle Rock | Do.
FirstBank Colorado Springs | Colardo Springs | Do.
The First National Bank of Durango | Durango | Do.
Colorado Federal Savings Bank | Englewood | Do.
The First National Bank of Flagler | Flagler | Do.
Morgan Federal Bank | Fort Morgan | Do.
Colorado East Bank and Trust | Lamar | Do.
First National Bank in Lamar | Lamar | Do.
First National Bank of Anthony | Anthony | Kansas.
Valley State Bank | Atchison | Do.
Peoples Exchange Bank | Belleville | Do.
Guaranty State Bank and Trust Company | Beloit | Do.
Beverly State Bank | Beverly | Do.
Caldwell State Bank | Caldwell | Do.
Elk State Bank | Clyde | Do.
Citizens National Bank | Fort Scott | Do.
Central Bank and Trust Company | Hutchinson | Do.
Inter-State FS&LA of Kansas City | Kansas City | Do.
State Bank of Kingman | Kingman | Do.
Citizens Savings and Loan Association, F.S.B | Leavenworth | Do.
First Savings Bank F.S.B | Manhattan | Do.
First State Bank | Norton | Do.
First FS&LA of Olathe | Olathe | Do.
First Option Bank | Osawatomie | Do.
The Roxbury Bank | Roxbury | Do.
The Columbian Bank and Trust Company | Topeka | Do.
First National Bank of Ainsworth | Ainsworth | Nebraska.
Community Bank | Alma | Do.
First Western Bank, NA | Atkinson | Do.
Auburn State Bank | Auburn | Do.
Bruning State Bank | Bruning | Do.
Butte State Bank | Butte | Do.
South Central State Bank | Campbell | Do.
First National Bank of Columbus | Columbus | Do.
City Bank and Trust Company | Crete | Do.
Cedar Security Bank | Fordyce | Do.
Fort Calhoun State Bank | Fort Calhoun | Do.
Security Home Bank | Malmo | Do.
Commercial Federal Bank | Omaha | Do.
Security National Bank of Omaha | Omaha | Do.
Pinnacle Bank | Papillion | Do.
First National Bank of Stromsburg | Stromsburg | Do.
Lancaster County Bank | Waverly | Do.
Bank of Yutan | Yutan | Do.
First National Bank & Trust Company | Ardmore | Oklahoma.
Citizens Security Bank and Trust Company | Bixby | Do.
Chickasha Bank and Trust Company | Chickasha | Do.
First National Bank and Trust in Clinton | Clinton | Do.
First Bank of Haskell | Haskell | Do.
Republic Bank of Norman | Norman | Do.
Lakeside State Bank | Oologah | Do.
First National Bank of Oklahoma | Ponca | Do.
First American Bank and Trust Company | Purcell | Do.
Sulphur Community Bank | Sulphur | Do.
Arvest State Bank | Tulsa | Do.
Federal Home Loan Bank of San Francisco—District 11
Bank of Stockdale | Bakersfield | California.
California National Bank | Beverly Hills | Do.
Pacific Business Bank | Carson | Do.
Valley Independent Bank | El Centro | Do.
Xerox Federal Credit Union | El Segundo | Do.
North County Bank | Escondido | Do.
Fremont Bank | Fremont | Do.
Fidelity Federal Bank, FSB | Glendale | Do.
American First Federal Credit Union | La Habra | Do.
International City Bank, N.A | Long Beach | Do.
First Commerce Bank | Los Angeles | Do.
National Bank of California | Los Angeles | Do.
Preferred Bank | Los Angeles | Do.
U.S. Trust Company, N.A | Los Angeles | Do.
Modesto Commerce Bank | Modesto | Do.
Vintage Bank | Napa | Do.
Oak Valley Community Bank | Oakdale | Do.
United Labor Bank, FSB | Oakland | Do.
World Savings and Loan Association | Oakland | Do.
Palm Desert National Bank | Palm Desert | Do.
Mid-Peninsula Bank | Palo Alto | Do.
PFF Bank and Trust | Pomona | Do.
Commercial Capital Bank, FSB | Riverside | Do.
Summit State Bank | Rohnert Park | Do.
Malaga Bank, ssb | Rolling Hills Estate | Do.
California Savings & Loan, a F.A | San Francisco | Do.
Commercial Bank of San Francisco | San Francisco | Do.
Westcoast Savings and Loan Association | Seal Beach | Do.
Monterey Bank Bay | Watsonville | Do.
Federal Home Loan Bank of Seattle—District 12
Northrim Bank | Anchorage | Alaska.
Northern Schools FCU | Fairbanks | Do.
Bank Pacific | Agana | Guam.
Finance Factors, Limited | Honolulu | Hawaii.
Hawaii State Federal Credit Union | Honolulu | Do.
The Bank of Commerce | Idaho Falls | Idaho.
Ireland Bank | Malad | Do.
First Federal Savings Bank of Twin Falls | Twin Falls | Do.
United Banks, N.A. | Absarokee | Montana.
Pioneer Federal Savings and Loan Association | Dillon | Do.
Pacific Continental Bank | Eugene | Oregon.
First FS&LA of McMinnville | McMinnville | Do.
Albina Community Bank | Portland | Do.
Community First | Prineville | Do.
Bank of American Fork | American Fork | Utah.
Home Credit Bank | Salt Lake City | Do.
TransWest Credit Union | Salt Lake City | Do.
Heritage Savings Bank | St. George | Do.
Horizon Bank, a Savings Bank | Bellingham | Washington.
Commercial Bank of Everett | Everett | Do.
Bank of Fairfield | Fairfield | Do.
Timberland Savings Bank | Hoquiam | Do.
Kitsap Bank | Port Orchard | Do.
Puyallup Valley Bank | Puyallup | Do.
First Savings Bank of Renton | Renton | Do.
HomeStreet | Seattle | Do.
Washington First International Bank | Seattle | Do.
Bank of Star Valley | Afton | Wyoming.
Wyoming Bank & Trust Company, N.A | Buffalo | Do.
Pinnacle Bank | Cody | Do.
Oregon Trail Bank | Guernsey | Do.
First National Bank and Trust | Powell | Do.
First State Bank of Thermopolis | Thermopolis | Do.
First National Bank, Torrington | Torrington | Do.
Pinnacle Bank, Wyoming | Torrington | Do.

To encourage the submission of public comments on the community support performance of Bank members, on or before October 27, 2000, each Bank will notify its Advisory Council and nonprofit housing developers, community groups, and other interested parties in its district of the members selected for community support review in the 2000-01 third quarter review cycle. 12 CFR 944.2(b)(2)(ii). In reviewing a member for community support compliance, the Finance Board will consider any public comments it has received concerning the member. 12 CFR 944.2(d). To ensure consideration by the Finance Board, comments concerning the community support performance of members selected for the 2000-01 third quarter review cycle must be delivered to the Finance Board on or before the November 27, 2000 deadline for submission of Community Support Statements.

By the Federal Housing Finance Board.
James L. Bothwell,
Managing Director.

[FR Doc. 00-25651 Filed 10-12-00; 8:45 am]

BILLING CODE 6725-01-P